INTERNATIONAL TRADE COMMISSION

[Investigation No. 731-TA-948 (Final)]

Individually Quick Frozen Red Raspberries From Chile

Determination

On the basis of the record ¹ developed in the subject investigation, the United States International Trade Commission determines,² pursuant to section 735(b) of the Tariff Act of 1930 (19 U.S.C. 1673d(b)) (the Act), that an industry in the United States is materially injured by reason of imports from Chile of individually quick frozen (“IQF”) red raspberries,³ provided for in subheading 0811.20.20 of the Harmonized Tariff Schedule of the United States, that have been found by the Department of Commerce to be sold in the United States at less than fair value (LTFV).

¹ The record is defined in sec. 207.2(f) of the Commission's Rules of Practice and Procedure (19 CFR 207.2(f)).

² Vice Chairman Jennifer A. Hillman dissenting.

³ For purposes of this investigation, the Department of Commerce has defined the subject merchandise as IQF red raspberries, whole or broken, from Chile, with or without the addition of sugar or syrup, regardless of variety, grade, size or horticulture method (e.g., organic or not), the size of the container in which packed, or the method of packing. The scope of the petition excludes fresh red raspberries and block frozen red raspberries (i.e., puree, straight pack, juice stock, and juice concentrate).

Background

The Commission instituted this investigation effective May 31, 2001, following receipt of a petition filed with the Commission and Commerce by the IQF Red Raspberry Fair Trade Committee, Washington, DC. The final phase of the investigation was scheduled by the Commission following notification of a preliminary determination by Commerce that imports of IQF red raspberries from Chile were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 1, 2002 (67 FR 4994). The hearing was held in Washington, DC, on May 23, 2002, and all persons who requested the opportunity were permitted to appear in person or by counsel.

The Commission transmitted its determination in this investigation to the Secretary of Commerce on July 2, 2002. The views of the Commission are contained in USITC Publication 3524 (June 2002), entitled Individually Quick Frozen Red Raspberries from Chile: Investigation No. 731-TA-948 (Final).

Issued: July 2, 2002.
By order of the Commission.
Marilyn R. Abbott,
Secretary to the Commission.

[FR Doc. 02-17059 Filed 7-8-02; 8:45 am]

BILLING CODE 7020-02-P